DEPARTMENT OF COMMERCE

National Oceanic and Atmospheric Administration

RIN 0648-XC978

South Atlantic Fishery Management Council (SAFMC); Public Meeting

AGENCY: National Marine Fisheries Service (NMFS), National Oceanic and Atmospheric Administration (NOAA), Commerce.

ACTION: Notice of public meeting of the South Atlantic Fishery Management Council (Council).

SUMMARY: The Council will hold a Council Member Visioning Workshop and a Council Member Data Workshop. In addition, the Council will hold a joint meeting of the Habitat and Ecosystem-Based Management Committees; Protected Resources Committee, Southeast Data, Assessment and Review Committee (partially CLOSED SESSION); Advisory Panel Selection Committee (CLOSED SESSION); Snapper Grouper Committee; King & Spanish Mackerel Committee; Executive Finance Committee; Personnel Committee (CLOSED SESSION); Dolphin Wahoo Committee; Data Collection Committee; and a meeting of the Full Council. The Council will take action as necessary. The Council will also hold an informal public question and answer session regarding agenda items and a formal public comment session.

DATES: The Council meeting will be held from 9 a.m. on Monday, December 2, 2013 until 3:00 p.m. on Friday, December 6, 2013.

ADDRESSES: Meeting Address: The meeting will be held at the Hilton Wilmington Riverside, 301 North Water Street, Wilmington, NC 28401; phone: 888/324-8170 or (910) 763-5900; fax: (910) 343-6124.

Council Address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the individual meeting agendas are as follows: 9 a.m. until 9:15 a.m. Swearing in of new Council member.

Council Member Visioning Workshop Agenda, Monday, December 2, 2013, 9:15 a.m. Until 12 Noon

1. Review September 2013 Workshop results and continue discussion of revised Strategic Goal Statements, Goals, and Snapper Grouper Fishery Management Plan (FMP) objectives;

2. Discuss port meetings and provide direction to staff on structure.

Council Member Data Workshop Agenda, Monday, December 2, 2013, 1:30 p.m. Until 5:30 p.m.

1. Presentations on Regional Electronic Monitoring Input for NOAA's Policy on Electronic Technologies and Fishery-Dependent Data Collection, Commercial Quota Monitoring Program, and the Atlantic Coast Cooperative Statistics Program (ACCSP);

2. Hands-on demonstrations for accessing data from ACCSP, decision tools, and Internet Mapping System (IMS).

Joint Habitat and Ecosystem-Based Management Committees Agenda, Tuesday, December 3, 2013, 8:30 a.m. Until 9:30 a.m.

1. Update on the status of Coral Amendment 8 addressing Coral Habitat Areas of Particular Concern (HAPC) and transit through the Oculina Bank HAPC;

2. Briefing on the Coral Reef Cooperative Agreement with the Coral Reef Conservation Program;

3. Report from the November 2013 Habitat and Environmental Protection Advisory Panel meeting and update on Ecosystem Activities, discuss issues take action as appropriate.

Protected Resources Committee Agenda, Tuesday, December 3, 2013, 9:30 a.m. Until 11 a.m.

1. Receive an update on ongoing consultations;

2. Overview of Endangered Species Act (ESA) Working Group Report;

3. Update on American eel; discuss issues and take action as appropriate.

Southeast Data, Assessment and Review (SEDAR) Committee Agenda, Tuesday, December 3, 2013, 10:30 a.m. Until Noon (Note: A portion of this meeting will be CLOSED)

1. Receive a SEDAR activities update. Take Committee action as appropriate;

2. Develop guidance to SEDAR Steering Committee members for the SEDAR process as well as the 2015 assessment priorities; discuss issues and take action as appropriate.

3. Discuss presentation of SEDAR assessments to the SSC;

4. Review the Gag Assessment Update and SEDAR 41 (red snapper and gray triggerfish) Terms of Reference and schedule;

5. Develop recommendations for SEDAR 41 participants (CLOSED SESSION).

Advisory Panel (AP) Selection Committee Agenda, Tuesday, December 3, 2013, 1:30 p.m. Until 2:30 p.m. (CLOSED SESSION)

1. Review advisory panel applications and develop recommendations for appointments/reappointments.

Snapper Grouper Committee Agenda, Tuesday, December 3, 2013, 2:30 p.m. Until 5:30 p.m. and Wednesday, December 4, 2013, 8:30 a.m. Until 5 p.m.

1. Receive update on the status of commercial and recreational catches versus Annual Catch Limits;

2. Receive an update on the status of Snapper Grouper amendments under formal Secretarial review;

3. Receive and discuss reports from the Scientific and Statistical Committee (SSC) and the Snapper Grouper Advisory Panel;

4. Receive presentations on activities relative to the Oculina Bank Experimental Closed area;

5. Address Regulatory Amendment 11 (240′ closure for deepwater species) to the Snapper Grouper FMP if necessary;

6. Receive presentations on Regulatory Amendment 17 addressing marine protected areas (MPAs), review and discuss MPA sites to consider for public scoping, and approve Regulatory Amendment 17 for public scoping meetings;

7. Review Regulatory Amendment 16 (Removal of the black sea bass seasonal pot closure), provide guidance to staff, and approve the amendment for public scoping;

8. Receive an overview of Snapper Grouper Amendment 22 (use of tags to track harvest) and approve Amendment 22 for public scoping;

9. Receive an overview of Snapper Grouper Amendment 29 (management measures for species with Only Reliable Catch Statistics (ORCS), and measures for gray triggerfish), provide guidance to staff, and approve the amendment for public hearings;

10. Review public scoping comments received for Snapper Grouper Amendment 31 (blueline tilefish management measures), provide guidance to staff, approve the amendment for public hearings, and consider an emergency rule request;

11. Review the status of Snapper Grouper Regulatory Amendment 20 (snowy grouper management measures);

12. Receive an overview of the Comprehensive Allocation/Accountability Amendment, provide guidance for species in the snapper grouper management complex, and approve the amendment for public scoping.

The committee will take action as necessary and provide guidance to staff.

Note: There will be an informal public question and answer session with the NMFS Regional Administrator and the Council Chairman on Wednesday, December 4, 2013, beginning at 5:30 p.m.

King & Spanish Mackerel Committee Agenda, Thursday, December 5, 2013, 8:30 a.m. Until 10:30 a.m.

1. Receive and discuss the status of commercial and recreational catches versus ACLs for Atlantic group king mackerel, Spanish mackerel and cobia;

2. Receive an update on the status of amendments under formal Secretarial review;

3. Receive an overview of Joint South Atlantic/Gulf of Mexico Mackerel Amendment 20B (trip limits, fishing seasons, transit provisions, framework procedure, cobia ACLs), develop recommendations for approving the amendment for formal Secretarial review, and deem the codified text as necessary and appropriate;

4. Receive an overview of Joint Gulf/South Atlantic Mackerel Framework Action 2014 (Spanish mackerel Acceptable Biological Catch (ABC) and ACL), review SSC recommendations for Spanish mackerel ABC, select preferred alternatives, modify the amendment as necessary and approve for public hearings;

5. Review options papers for Joint Gulf/South Atlantic Amendment 24 (Allocations) and Joint Amendment 26 (Separate commercial permits), provide guidance to staff, and approve the amendments for public scoping;

6. Receive an overview of other actions from the Gulf Council and take action as necessary.

Executive Finance Committee Agenda, Thursday, December 5, 2013, 10:30 a.m. Until 11:30 a.m.

1. Receive an update on the status of Council calendar year (CY) 2013 budget expenditures and the proposed CY 2014 budget;

2. Receive an update on Joint Committee on South Florida Management Issues and the AdHoc Goliath Grouper Joint Council Steering Committee Activities;

3. Review and approve the Regional Operating Agreement;

4. Receive a report on the Council Coordinating Committee meeting;

5. Discuss Council Follow-up and Priorities and take action other issues as appropriate.

Personnel Committee Agenda (CLOSED SESSION), Thursday, December 5, 2013, 11:30 a.m. Until 12 Noon.

1. Executive Director performance review.

Dolphin Wahoo Committee Agenda, Thursday, December 5, 2013, 1:30 p.m. Until 2:30 p.m.

1. Receive update on the status of commercial and recreational catches versus Annual Catch Limits;

2. Receive an update on the status of Amendment 5 to the Dolphin Wahoo FMP (modifications to ABC, ACLs);

3. Review public hearing comments on Dolphin Wahoo Amendment 7 (allow filleted dolphin and wahoo from the Bahamas), modify the amendment as appropriate, and approve for formal Secretarial review;

4. Review the Comprehensive Allocation Amendment, provide guidance to staff, and approve the amendment for public scoping.

Data Collection Committee Agenda, Thursday, December 5, 2013, 2:30 p.m. Until 5 p.m.

Receive an update on the status of the following amendments: Joint South Atlantic/Gulf Generic Dealer Permit Amendment, Joint South Atlantic/Gulf Generic For-Hire Reporting Amendment (South Atlantic portion only), and Gulf Framework for For-Hire Reporting:

1. Discuss Comprehensive Ecosystem-Based Amendment 3 (Bycatch);

2. Receive an update on the Commercial Electronic Logbook Pilot Study;

3. Receive an overview of Gulf actions for the Gulf Generic Charterboat Reporting Amendment. Provide guidance to staff and take action as appropriate.

Note: A formal public comment session will be held on Thursday, December 5, 2013, beginning at 5:30 p.m. on the following items scheduled for final Council action at this meeting: (1) Joint SA/Gulf Mackerel Amendment 20B, and (2) Amendment 7 to the Dolphin Wahoo FMP. Following comment on these specific items, public comment will be accepted regarding any other items on the Council agenda. The amount of time provided to individuals will be determined by the Chairman based on the number of individuals wishing to comment.

Council Session: Friday, December 6, 2013, 8:30 a.m. Until 3 p.m.

Council Session Agenda, Friday, December 6, 2013, 8:30 a.m. until 3 p.m.

8:30 a.m.-8:45 a.m.: Call the meeting to order, adopt the agenda, and approve the September 2013 meeting minutes.

8:45-9:15 a.m.: The Council will receive a report from the Snapper Grouper Committee and is scheduled to either approve or disapprove Amendment 29 and Amendment 31 for public hearings and approve or disapprove Amendment 22, Regulatory Amendment 16, Regulatory Amendment 17, and the Generic Allocation/Accountability Measure Amendment (relative to snapper grouper) for public scoping. The Council will consider other committee recommendations and take action as appropriate.

9:15-9:45 a.m.: The Council will receive a report from the King & Spanish Mackerel Committee and is scheduled to approve or disapprove Amendment 20B to the Coastal Migratory Pelagic Species FMP for formal Secretarial review. The Council will also approve or disapprove the South Atlantic Spanish Mackerel Framework for public hearings and Joint South Atlantic/Gulf Amendment 24 and Amendment 26 for public scoping. The Council will consider other Committee recommendations and take action as appropriate.

9:45-10 a.m.: The Council will receive a report from the Dolphin Wahoo Committee and is scheduled to either approve or disapprove Dolphin Wahoo Amendment 7 for formal Secretarial review. The Council will approve or disapprove the Generic Allocation/Accountability Measure Amendment (relative to dolphin wahoo) for public scoping. The Council will consider other Committee recommendations and take action as appropriate.

10-10:15 a.m.: The Council will receive a report from the Council Visioning Workshop, consider recommendations, and take action as appropriate.

10:15-10:30 a.m.: The Council will receive a report from the Council Member Data Workshop, consider recommendations, and take action as appropriate.

10:30-10:45 a.m.: The Council will receive a report from the Joint Habitat/Ecosystem-Based Management Committees, consider recommendations and take action as appropriate.

10:45-11 a.m.: The Council will receive a report from the Protected Resources Committee, consider recommendations and take action as appropriate.

11-11:15 a.m.: The Council will receive a report from the SEDAR Committee, approve participants for SEDAR 41, consider other recommendations and take action as appropriate.

11:15-11:30 a.m.: The Council will receive a report from the Advisory Panel Selection Committee, consider recommendations for appointment or reappointment of AP members, and take action as appropriate. The Council will consider other recommendations and take action as appropriate.

11:30-11:45 a.m.: The Council will receive a report from the Executive Finance Committee, approve the Council Follow-Up and Priorities, take action relative to South Florida Management issues as appropriate, approve the Regional Operating Agreement, and consider recommendations and take action as appropriate.

11:45-12 Noon: The Council will receive a report from the Data Collection Committee, approve or disapprove the South Atlantic/Gulf of Mexico Generic Dealer Permit Amendment for formal Secretarial review, and consider other recommendations and take action as appropriate.

1:30-3 p.m.: The Council will receive an update on the Marine Resources Education Program Southeast; status reports from NOAA Fisheries Southeast Regional Office and the Southeast Fisheries Science Center; review agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: November 8, 2013.
Tracey L. Thompson,
Acting Deputy Director, Office of Sustainable Fisheries, National Marine Fisheries Service.

[FR Doc. 2013-27225 Filed 11-13-13; 8:45 am]

BILLING CODE 3510-22-P